NATIONAL AERONAUTICS AND SPACE ADMINISTRATION

[Notice (01-014)]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: January 22, 2001.

FOR FURTHER INFORMATION CONTACT: Diana Cox, Patent Counsel, Kennedy Space Center, Mail Code: CC-A, Kennedy Space Center, FL, 32899; Tel. (321) 867-7214; Fax (321) 867-1817.

NASA Case No. KSC-12052: Communications Interface for Wireless Communications Headset;

NASA Case No. KSC-12056: Air Pollution Control Method and Apparatus for Removal of Nitrogen Oxides from Stationary Combustion Sources;

NASA Case No. KSC-12144: Architectural Assessment Tool—Enhanced (AATe);

NASA Case No. SSC-00120-1: Seal Ring Installation Tool.

Dated: January 11, 2001.
Edward A. Frankle,
General Counsel.

[FR Doc. 01-1774 Filed 1-19-01; 8:45 am]

BILLING CODE 7510-01-U